DEPARTMENT OF TRANSPORTATION

Pipeline and Hazardous Materials Administration

[Docket No. PHMSA-2008-0291]

Pipeline Safety: Information Collection Activities

ACTION: Request for public comments and OMB approval of new Information Collection.

AGENCY: Pipeline and Hazardous Materials Safety Administration

SUMMARY: On December 13, 2010, in accordance with the Paperwork Reduction Act of 1995, the Pipeline and Hazardous Materials Safety Administration (PHMSA) published a notice in the Federal Register of its intent to create a national registry of pipeline and liquefied natural gas (LNG) operators. PHMSA received one comment in response to that notice. PHMSA is publishing this notice to respond to the comment, to provide the public with an additional 30 days to comment on the proposed revisions to the operator registry forms, including the form instructions, and to announce that the revised Information Collections will be submitted to the Office of Management and Budget for approval.

DATES: Comments on this notice must be received by December 12, 2011 to be assured of consideration.

FOR FURTHER INFORMATION CONTACT: Angela Dow by telephone at (202) 366-1246, by fax at (202) 366-4566, by email at Angela.Dow@dot.gov, or by mail at U.S. Department of Transportation, Pipeline and Hazardous Materials Safety Administration, 1200 New Jersey Avenue SE., PHP-30, Washington, DC 20590-0001.

ADDRESSES: You may submit comments identified by the docket number PHMSA-2008-0291 by any of the following methods:

• Federal eRulemaking Portal: http://www.regulations.gov. Follow the online instructions for submitting comments.

• Fax: 1 (202) 395-6566.

• Mail: Office of Information and Regulatory Affairs, Office of Management and Budget, 726 Jackson Place NW., Washington, DC 20503, ATTN: Desk Officer for the U.S. Department of Transportation.

• Email: Office of Information and Regulatory Affairs, Office of Management and Budget, at the following address: oira_submissions@omb.eop.gov.

Requests for a copy of the Information Collection should be directed to Angela Dow by telephone at (202) 366-1246, by fax at (202) 366-4566, by email at Angela.Dow@dot.gov, or by mail at U.S. Department of Transportation, PHMSA, 1200 New Jersey Avenue SE., PHP-30, Washington, DC 20590-0001.

SUPPLEMENTARY INFORMATION: Section 1320.8(d), Title 5, Code of Federal Regulations requires PHMSA to provide interested members of the public and affected agencies an opportunity to comment on information collection and recordkeeping requests. This notice identifies a new information collection request that PHMSA will be submitting to OMB for approval. The information collection will be titled: “National Registry of Pipeline and Liquefied Natural Gas Operators.” PHMSA published a final rule in the Federal Register on November 26, 2010 (75 FR 72878), titled “Pipeline Safety: Updates to Pipeline and Liquefied Natural Gas Reporting Requirements.” That final rule added two new sections, 49 CFR 191.22 and 195.64, to the pipeline safety regulations for the establishment of a “National Registry of Pipeline and Liquefied Natural Gas Operators,” which will be used by operators to obtain an Operator Identification (OPID) number. The following information is provided for each information collection: (1) Title of the information collection; (2) Office of Management and Budget (OMB) control number; (3) Type of request; (4) Abstract of the information collection activity; (5) Description of affected public; (6) Estimate of total annual reporting and recordkeeping burden; and (7) Frequency of collection. PHMSA will request a three-year term of approval for each information collection activity.

The comments are summarized and addressed below as specified in the following outline:

I. Background

II. Summary of Comments/Topics

III. Proposed Information Collection Revisions and Request for Comments

I. Background

PHMSA published a final rule in the Federal Register on November 26, 2010, (75 FR 72878), titled “Pipeline Safety: Updates to Pipeline and Liquefied Natural Gas Reporting Requirements.” That final rule added two new sections, 49 CFR 191.22 and 195.64, to the pipeline safety regulations for the establishment of a national pipeline operator registry, which will be used by operators to obtain an Operator Identification (OPID) number. PHMSA is proposing to use two forms as part of this information collection. When an operator requests an initial OPID number, an online form titled “OPID Assignment Request (PHMSA F 1000.1)” will be used. For an operator notifying PHMSA of certain required changes associated with an OPID (see 49 CFR 191.22 and 195.64) or for operators updating their OPID information, a form titled “Operator Registry Notification (PHMSA F 1000.2)” will be used. Copies of these forms have been placed in the docket and are available for comment.

II. Summary of Comments/Topics

During the two month response period, PHMSA received a combined comment from American Petroleum Institute (API) and American Oil Pipelines Association (AOPL) on the proposal outlined in the December 2010 Federal Register notice.

A. OPID Assignment Request (Form PHMSA F 1000.1)

A1. API-AOPL noted that Step 1, “Enter Basic Information,” incorrectly implies that some rural low-stress hazardous liquid pipelines are not subject to part 195 although they are required to submit reports under Subpart B. They noted that being subject to Subpart B is being subject to Part 195. They also note that this step incorrectly implies that unregulated rural gathering lines are subject to reporting requirements.

Response: PHMSA agrees and has revised and reordered the elements of Question 1 in this step to better align these elements with the degree to which pipelines are subject to part 195.

A2. In Step 2, API-AOPL requested clarification of the term “vessels” in the item “Hazardous Liquid Breakout Tanks → Total Number of Tanks/Caverns/Vessels.”

Response: This item meant to indicate that the operator should report the total number of tanks, caverns, or other containers (i.e., vessels) that serve as breakout tanks. PHMSA agrees that the term “vessels,” is not used elsewhere and could cause confusion. PHMSA also concludes that the intended clarification is unnecessary and has revised this item to indicate only that operators should report the total number of breakout tanks.

A3. API-AOPL commented that identifying all counties through which a pipeline passes will be an additional reporting burden. They suggested that a drop-down list including all counties in each state be provided as part of the online reporting system.

Response: PHMSA agrees and will include drop-down lists in the online reporting system to facilitate providing this information.

A4. API-AOPL pointed out a formatting error in that the statement at the bottom of each page indicating that a step continues did not always refer to the correct question number.

Response: PHMSA has revised the form to fix this error.

A5. API-AOPL asked that PHMSA clarify the reason for requesting right-of-way miles as well as pipeline miles (Step 2, Question 3). They noted that not all companies calculate right-of-way miles for business purposes and that reporting this information could result in additional burden.

Response: PHMSA has agreed to remove the question concerning right-of-way miles.

A6. Step 2, Question 4, asks for a brief description of the pipelines/facilities covered by an OPID assignment request. API-AOPL noted that the amount of detail to be provided in this description is not clear and suggested that PHMSA include examples in the instructions. They noted that this form is applicable to hazardous liquid pipelines and gas pipelines as well as LNG facilities and requested that the examples address all of these types of facilities.

Response: PHMSA agrees that examples for each facility type would be useful and has included them in the revised instructions.

A7. Step 3 collects information concerning PHMSA-required safety programs. Pipeline operators with systems covered by multiple OPIDs often manage these as common programs covering all (or multiple) OPIDs. This step asks that the operator designate the “primary” OPID for each program. API-AOPL requested clarification as to how the designation of an OPID as “primary” is to be made.

Response: This “primary” OPID designation is intended to represent the OPID that should be the focus of PHMSA inspection activities covering the specific safety program in question. As such, it should be the OPID under which that particular safety program is managed or administered, and typically will be associated with the physical location where the main documentation and description of the safety program exist. (For example, if the pipelines covered by an OPID assignment request for OPID 67890 are part of an Integrity Management Program that is administered by the operator under its existing OPID 12345, then the primary OPID would be 12345). The designation of which multiple OPIDs is “primary” is at the operator's discretion, but it is important that once a particular OPID is selected as “primary,” the operator continue to list this same OPID as “primary” in future notifications concerning the safety program in question. PHMSA has clarified this in the instructions.

A8. Step 4, Question 1, asks for information about the “operator contact responsible for assuring compliance” with PHMSA regulations. API-AOPL noted that several personnel could fit this description and requested additional clarification.

Response: PHMSA agrees that this description was vague. Ultimately, any operator personnel who perform or manage work required by the regulations have some responsibility for assuring compliance. This question was intended to collect information regarding the person who oversees compliance and typically is the principal contact with PHMSA to discuss regulatory issues. This would include such titles as “Manager of Compliance,” “Regulatory Compliance Officer,” “DOT Compliance Supervisor,” “Pipeline Safety Manager,” etc. PHMSA has revised the form to state “operator contact responsible for overseeing compliance” and has included these position titles as examples in the instructions.

A9. API-AOPL requested that the contact information collected in Step 4 be kept confidential.

Response: PHMSA does not intend to make this information publicly available. It could be subject to release under a Freedom of Information Act request, but all such releases are subject to privacy exemptions in that Act and the Privacy Act.

A10. API-AOPL noted that the various “contacts” included in Step 4 are often located at a common address and asked that the form allow for entering this information only once.

Response: PHMSA has revised the online reporting system to allow designation of a common address for multiple contacts.

A11. API-AOPL requested that the online reporting system provide a simple mechanism for updating contact information for an OPID.

Response: PHMSA agrees that such a mechanism will be useful and has plans to incorporate such a mechanism in the near future.

A12. API-AOPL questioned whether this same form would be used to validate/collect information for existing OPIDs and requested that any such information collection be delayed until the on-line reporting system is available.

Response: 49 CFR 191.22(b) and 195.64(b) require validation of information for existing OPIDs by gas pipeline/LNG operators and hazardous liquid pipeline operators, respectively. This same form will be used for that purpose. PHMSA is planning for the on-line reporting system to be available to operators for validation purposes before validation is required.

B. Operator Registry Notification (Form PHMSA F 1000.2)

B1. API-AOPL noted that Step 1, Question 7, indicates the operator is to select only one type of facility and asked whether the form was to be completed multiple times for an operator with more than one type of facility covered by the same OPID. They also noted that Step 3, Question 1, allows operators to select all pipeline facility types that apply, in apparent contradiction to this limitation to one facility type.

Response: PHMSA has modified the form to allow operators to select all facility types that apply.

B2. API-AOPL requested that PHMSA clarify whether a separate form is required for each type of change listed in Step 2.

Response: No. Operators may report multiple types of changes in a single notification.

B3. API-AOPL requested clarification as to whether one or both operators must file a notification in the case of a transfer of assets. They also questioned whether the date to be reported should be the date on which ownership or operating responsibility is transferred in cases where they do not occur simultaneously.

Response: Both operators are required to file a notification in the event of a transfer of assets, each reporting the change affecting their OPID(s). The date should be the date operating responsibility is transferred. The instructions have been revised to clarify this.

B4. For changes involving the name of an operator (TYPE A) or the entity responsible for operation (TYPE B), the form asks an operator to enter the reason for the change. API-AOPL asked for justification for requiring this information and why reports are needed for this type of change when there is no simple mechanism for reporting smaller changes such as address or name of Senior Executive Officer.

Response: The operator of a pipeline facility is responsible for compliance with pipeline safety regulations. Accordingly, PHMSA's regulatory activities are focused on the operating entity. PHMSA thus needs to know whether changes of this type reflect a new operating entity. A change in name of operator can, for example, reflect a corporate re-branding or it can mean a more significant change in the operating company. A change in responsible entity could be due to a sale of assets or to a shift in responsibility from one subsidiary of a common parent company to another. The potential effect of these changes on continuity in responsibility for compliance would vary, and determine PHMSA's follow-up to the notification. This form only requires reporting of those changes where the regulations require that an operator notify PHMSA. Changes in address or contact information for key personnel are not required to be reported. PHMSA plans, however, to provide on-line means to report such changes in basic information in the near future.

B5. For several change types which involve changes in operating responsibility, the draft form included a question on whether the operator wanted PHMSA to deactivate the existing OPID. API-AOPL noted that only the holder of a specific OPID should be able to request deactivation.

Response: PHMSA agrees that only the holder of an OPID should be able to request deactivation and that this question should not be included on a form that will be completed by both parties involved in a transfer of responsibilities. PHMSA has deleted this question from the form. The question was not intended to result in automatic deactivation, but rather to prompt PHMSA to follow-up with the reporting operator. PHMSA will instead address the question of OPID deactivation as part of its normal contact with operators.

B6. API-AOPL asked for clarification concerning changes of TYPE D (acquisition/divestiture of 50 or more miles of pipe) and TYPE E (acquisition/divestiture of a pipeline facility). They noted, for example, that a “pipeline facility” may consist of only a few miles of pipe and questioned whether acquisition/divestiture of such a facility should be reported as TYPE E when a transaction involving the same mileage would not be reported as TYPE D.

Response: “Pipeline facility” is defined in both Parts 192 and 195 and includes “new and existing pipelines, right-of-ways, and any equipment, facility, or building used in the transportation” of the commodity. (Both definitions are included in the instructions under TYPE E.) API-AOPL is correct that the acquisition/divestiture of an entire pipeline consisting of only a few miles would need to be reported as TYPE E while acquisition/divestiture of the same amount of pipe that did not involve sale of a complete facility would not need to be reported. The difference reflects PHMSA's need for the information. PHMSA regulates the operator of a facility. If a complete facility changes hands, then PHMSA needs to update its records, inspection plans, etc., to assure that appropriate attention is paid to the new operator. If, on the other hand, a larger operator acquires or divests itself of a few miles of pipe, significant changes in PHMSA oversight plans are not needed. PHMSA will obtain information about these changes through routine inspections and update its records/plans as appropriate. To reduce the aggregate reporting burden associated with this form, we will not require that operators report acquisition/divestiture of small amounts of pipe (< 50 miles). PHMSA has made changes to clarify these distinctions.

B7. Change TYPE F involves “rehabilitation, replacement, modification, upgrade, uprate, or update of facilities, other than a section of line pipe that costs $10 million or more.” API-AOPL requested clarification, including the basis for the stated exclusion. They asked if rehabilitation of line pipe costing more than $11 million would need to be reported.

Response: Construction-type changes are reported as either TYPE F or G. Pipeline operators continually construct/rehabilitate facilities, and routine activities of this type are addressed as part of PHMSA's routine inspection program. These notifications are to collect information on larger changes for which special inspections may be required. Thus, a reporting threshold was needed. For line pipe, a threshold based on miles of pipe to be constructed is appropriate. Cost is not an appropriate threshold for changes in line pipe because per-mile construction costs vary significantly depending on the environment in which construction is to occur (e.g., rural vs. urban). A mileage threshold alone, however, would not identify other significant changes (e.g., construction of a new pump/compressor station) for which construction inspections would be appropriate. Changes not involving construction of line pipe and which are expected to cost $10 million or more should be reported as TYPE F. Construction of 10 miles or more of line pipe, (including replacement of 10 or more miles of an existing pipeline) should be reported as TYPE G. Construction of line pipe costing more than $10 million but involving less than 10 miles need not be reported.

B8. Changes of TYPES F and G must be submitted 60 days before planned start of construction. API-AOPL noted that construction dates often slip. They questioned whether reported dates for anticipated start of work would need to be updated.

Response: No. As described above, the purpose of these notifications is for PHMSA to plan for inspections to be conducted during construction. Notifications of this type will prompt PHMSA to contact the operator to arrange for such inspections. PHMSA expects that the operator will keep PHMSA informed of changes in the anticipated date of field operations as part of these pre-inspection interactions.

B9. API-AOPL commented that it was inappropriate to include an operations question referring to maximum allowable operating pressure (MAOP) in an OPID data form (TYPE G).

Response: PHMSA disagrees. This question applies only to gas transmission pipelines and asks whether the new pipeline will use alternate MAOP under 49 CFR 192.620. Pipe to be operated at alternate MAOP is subject to many requirements not applicable to other pipelines and for which special inspections by PHMSA may be required. As noted above, the purpose for notifications of this type is for PHMSA to manage its inspection resources.

B10. API-AOPL commented that it was not clear which portions of Step 3 need to be completed for each change “Type” in Step 2.

Response: The on-line reporting system will be configured so that only those questions applicable to the change types selected in Question 2 will be presented for answers. This should resolve the confusion.

B11. Step 3, Question 4, asks for a brief description of the pipelines/facilities covered by this notification. API-AOPL asked that examples be included indicating the level of detail that PHMSA expects in these notifications.

Response: PHMSA has included examples in the instructions.

C. Comments Applicable to Both Forms

C1. API-AOPL noted that the paper forms are confusing, in large part because it is difficult to track which questions in later steps apply to specific change types selected in earlier steps. They suggested that PHMSA make maximum use of on-line reporting, with the on-line system limiting the questions presented for completion, making maximum use of drop-down menus, etc.

Response: PHMSA agrees. The new regulation requires on-line reporting. The purpose of the paper form is to collect public comments. The on-line system will use “smart navigation” that will screen later questions based on information entered earlier. Drop down menus will be used whenever possible.

C2. API-AOPL expects the time it takes to complete the form to exceed the 15 minutes PHMSA proposed by up to three times as much.

Response: Completion of the OPID Assignment Request form is intended to be a one-time effort to collect as much as possible of the operator's information that PHMSA needs. Once this information is completed, PHMSA does not require the operator to undertake this effort again. The Operator Registry Notification form will be used to update any pertinent information that may have changed based on PHMSA's notification requirements since the OPID was originally issued. Operators will not have to complete the entire form. They will only update the section that is applicable to the change for which PHMSA is being notified. Given that most companies know this information prior to informing PHMSA, we estimate that the average time for completing these forms will be 15 minutes.

C3. API-AOPL commented that the forms request information not specified in the rule or discussed in the rulemaking (e.g., the counties through which involved pipeline is routed). They noted that this could be construed as rulemaking without notice and comment.

Response: The rule did not specify the particular information that must be submitted for each type of notification. That is the purpose of these forms, and the forms have been subjected to notice and comment.

C4. API-AOPL suggested that PHMSA expand the instructions, where possible, to include more detail and specific examples. They noted that operators want to submit all of the information the agency needs and that more detailed instructions would help facilitate this.

Response: PHMSA appreciates API-AOPL's comments on these forms and pipeline operators' efforts to submit information as needed. PHMSA has revised the instructions to include more specificity and details. PHMSA invites stakeholders to submit suggestions for additional changes at any time, which will be considered for future revisions of these instructions.

D. Master Meter and Small Petroleum Gas Systems

The form will specify that operators of master meter systems or operators that solely operate petroleum gas systems which serve fewer than 100 customers from a single source (small petroleum gas operators) do not need to follow the Operator Registry requirements in 49 CFR 191.22 and 195.64. However, this exception does not extend to operators of these systems who also operate other system types. Small petroleum gas operators that do not have an OPID and are required to file an incident report will be able to request an OPID during the incident filing process.

III. Proposed Information Collection Revisions and Request for Comments

The forms to be created as a result of this information collection are the OPID Assignment Request form and the Operator Registry Notification form. The burden hours associated with these information collections are specified as follows:

Title of Information Collection: National Registry of Pipeline and Liquefied Natural Gas Operators.

OMB Control Number: Pending.

Type of Request: New information collection.

Abstract: PHMSA is requiring each operator to have an OPID number. The OPID number will contain detailed information on the operator. In addition, PHMSA is requiring that an operator provide PHMSA with update notifications for certain changes to information initially provided by the operator.

Affected Public: Pipeline Operators.

Recordkeeping:

Estimated Number of Respondents: 2,753.

Estimated Total Annual Burden Hours: 5,506.

Frequency of collection: On occasion.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC on November 3, 2011.
Jeffrey D. Wiese,
Associate Administrator for Pipeline Safety.

[FR Doc. 2011-29084 Filed 11-8-11; 8:45 am]

BILLING CODE 4910-60-P